NATIONAL AERONAUTICS AND SPACE ADMINISTRATION

[Notice (10-056)]

Government-Owned Inventions, Available for Licensing

AGENCY: National Aeronautics and Space Administration.

ACTION: Notice of Availability of Inventions for Licensing.

SUMMARY: Patent applications on the inventions listed below assigned to the National Aeronautics and Space Administration, have been filed in the United States Patent and Trademark Office, and are available for licensing.

DATES: May 21, 2010.

FOR FURTHER INFORMATION CONTACT: Bryan A. Geurts, Patent Counsel, Goddard Space Flight Center, Mail Code 140.1, Greenbelt, MD 20771-0001; telephone (301) 286-7351; fax (301) 286-9502.

NASA Case No. GSC-14968-2: Swarm Autonomic Agents with Self-Destruct Capability.

NASA Case No. GSC-15464-1: Optical Wave-Front Recovery for Active and Adaptive Imaging Control.

NASA Case No. GSC-15732-1: Wind and Temperature Spectrometer with Crossed Small-Deflection Energy Analyzer.

Dated: May 17, 2010.
Richard W. Sherman,
Deputy General Counsel.

[FR Doc. 2010-12161 Filed 5-20-10; 8:45 am]

BILLING CODE 7510-13-P